DEPARTMENT OF ENERGY

Federal Energy Regulatory Commission

[Docket No. RP01-395-000]

Northern Natural Gas Company; Notice of Proposed Changes in FERC Gas Tariff

May 4, 2001.

Take notice that on May 1, 2001, Northern Natural Gas Company (Northern) tendered for filing to become part of Northern's FERC Gas Tariff, Fifth Revised Volume No. 1 the following tariff sheets to be effective June 1, 2001:

Fourteenth Revised Sheet No. 54

First Revised Sheet No. 54A

Twelfth Revised Sheet No. 61

Twelfth Revised Sheet No. 62

Twelfth Revised Sheet No. 63

Twelfth Revised Sheet No. 64

First Revised Sheet No. 300A

Fourth Revised Sheet No. 301

Second Revised Sheet No. 301A

Northern states that the revised tariff sheets are being filed in accordance with Section 53 of Northern's General Terms and Conditions, which requires Northern to adjust its fuel and Unaccounted for (UAF) gas percentages each June 1.

Northern states that copies of the filing were served upon Northern's customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11788 Filed 5-9-01; 8:45 am]

BILLING CODE 6717-01-M